DEPARTMENT OF AGRICULTURE

Forest Service

Information Collection; Environmental Justice and the Urban Forest in Atlanta, GA

AGENCY: Forest Service, USDA.

ACTION: Notice; request for comment.

SUMMARY: In accordance with the Paperwork Reduction Act of 1995, the Forest Service is seeking comments from all interested individuals and organizations on the new information collection, Environmental Justice and the Urban Forest in Atlanta, GA.

DATES: Comments must be received in writing on or before February 18, 2014 to be assured of consideration. Comments received after that date will be considered to the extent practicable.

ADDRESSES: Comments concerning this notice should be addressed to Cassandra Johnson Gaither, Forestry Sciences Lab, 320 Green St., Athens, GA 30602. Comments also may be submitted via facsimile to 706-559-4266 or by email to: cjohnson09@fs.fed.us.

The public may inspect comments received at Forestry Sciences Lab, 320 Green St., Athens, GA 30602 during normal business hours. Visitors are encouraged to call ahead to 706-559-4270 to facilitate entry to the building.

FOR FURTHER INFORMATION CONTACT: Cassandra Johnson Gaither, U.S. Forest Service, Southern Research Station, 706-559-4270. Individuals who use telecommunication devices for the deaf (TDD) may call the Federal Relay Service (FRS) at 1-800-877-8339, 24 hours a day, 7 days a week, including holidays.

SUPPLEMENTARY INFORMATION: Title: Environmental Justice and the Urban Forest in Atlanta, GA

OMB Number: 0596-NEW

Type of Request: New

Abstract: This information collection records data on the attitude and engagement of Atlanta city residents as it relates to the Atlanta urban forest. The information collected serves several purposes beginning with the provision of data. This data will be used to support the participation of U.S. Forest Service Region 8 in the interagency, Green Infrastructure Community of Practice initiative (GI COP). GI COP is a public agency collaboration, partnered with others, that advocate to increase the amount of green space in cities across the country. The collected data will be used to help achieve the Region 8, Regional Urban Forester, goals as related to the GI COP effort. Another purpose of this information collection is to support the U.S. Forest Service Strategic Goal # 6, through the GI COP, which directs the agency to engage urban America with Forest Service Programs. Action items are implemented, related to Strategic Goal #6, and used “to develop partnerships with nontraditional partners to engage urban and underserved audiences”. The final purpose of this information collection is to incorporate the President Obama America's Great Outdoors Initiative (AGO), Recommendation 6.4, which stresses the need to connect urban residents with community green spaces http://americasgreatoutdoors.gov/files/2011/02/AGO-Report-With-All-Appendices-3-1-11.pdf.

The AGO recommendation requires the federal government to find innovative ways to engage urban residents, with both public and private green space, in cities through the elimination of barriers to engagement. A better understanding of the constraints to citizen engagement is one of the methods being used to comply with the AGO.

This information collection addresses environmental justice from the perspective of urban trees; and how this resource may contribute to environmental justice in a given community or neighborhood. Most existing studies of environmental justice focus solely on environmental threats. A better account of environmental justice would include an assessment of the cumulative impact of both environmental burdens and environmental services. In cities, this would include the counts for both the number of hazardous facilities and the number of city parks and green spaces, for instance. Another component of environmental justice is human interest and advocacy for environmental quality. This information collection gathers data on people's interest in, and their understanding of, city trees in Atlanta. This dimension of environmental justice will be combined with data on environmental threats, and data on the physical remediation of pollutants via urban vegetation to produce a more complete assessment of environmental justice in Atlanta neighborhoods.

Type of Respondents: Individuals and Households

Estimated Annual Number of Respondents: 1,236

Estimated Annual Number of Responses per Respondent: 2.5

Estimate of Burden per response: 1 to 15 minutes

Estimated Total Annual Burden on Respondents: 199 hours

Comment is Invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: December 11, 2013.
Daina D. Apple,
Senior Staff to the Deputy Chief, U. S. Forest Service Research and Development.

[FR Doc. 2013-30152 Filed 12-18-13; 8:45 am]

BILLING CODE 3410-11-P